DEPARTMENT OF THE INTERIOR

National Park Service

[NPS-WASO-NAGPRA-11060; 2200-1100-665]

Notice of Inventory Completion: Thomas Burke Memorial Washington State Museum, University of Washington, Seattle, WA

AGENCY: National Park Service, Interior.

ACTION: Notice.

SUMMARY: The Thomas Burke Memorial Washington State Museum (Burke Museum), University of Washington, has completed an inventory of human remains and associated funerary objects, in consultation with the appropriate Indian tribes, and has determined that there is a cultural affiliation between the human remains and associated funerary objects and a present-day Indian tribe. Representatives of any Indian tribe that believes itself to be culturally affiliated with the human remains and associated funerary objects may contact the Burke Museum. Repatriation of the human remains to the Indian tribe stated below may occur if no additional claimants come forward.

DATES: Representatives of any Indian tribe that believes it has a cultural affiliation with the human remains and associated funerary objects should contact the Burke Museum at the address below by October 29, 2012.

ADDRESSES: Peter Lape, Burke Museum, University of Washington, Box 35101, Seattle, WA 98195, telephone (206) 685-3849.

SUPPLEMENTARY INFORMATION: Notice is here given in accordance with the Native American Graves Protection and Repatriation Act (NAGPRA), 25 U.S.C. 3003, of the completion of an inventory of human remains and associated funerary objects in the control of the Burke Museum. The human remains were removed from San Juan County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains and associated funerary objects was made by the Burke Museum professional staff in consultation with representatives of the Lummi Tribe of the Lummi Reservation, Washington; Samish Indian Tribe, Washington; and the Swinomish Indians of the Swinomish Reservation, Washington.

History and Description of the Remains

In 1951, human remains representing, at minimum, one individual were removed from a shell midden (site 45-SJ-239) on the northern end of Eastsound on Orcas Island, in San Juan County, WA. The human remains were removed by Keith Thompson of the University of Washington while conducting a geological survey of the area and were transferred to the Burke Museum sometime prior to 1970. The human remains were found in collections at the Burke Museum in 1995 (Burke Accn. #1995-79). No known individuals were identified. No funerary objects are present.

In 1957, human remains representing, at minimum, one individual were removed from a shell midden (site 45-SJ-240) on the northern end of Eastsound on Orcas Island, in San Juan County, WA. The human remains were removed by Thomas Greaves and donated to the Burke Museum in 1962 (Burke Accn. #1963-23). No known individuals were identified. No funerary objects are present. The human remains from site 45-SJ-240 are consistent with Native American morphology as evidenced through cranial deformation and bossing of the cranium, as well as the presence of wormian bones.

In 1951, human remains representing, at minimum, one individual were removed from a shell midden (site 45-SJ-231) on the southwest shore of Eastsound on Orcas Island, in San Juan County, WA. The human remains were removed by Keith Thompson of the University of Washington while conducting a geological survey of the area and were transferred to the Burke Museum sometime prior to 1970. The human remains were found in collections at the Burke Museum in 1995 (Burke Accn. #1995-79). No known individuals were identified. No funerary objects are present.

The three Orcas Island sites listed above are documented shell midden archaeological sites and are considered part of the Gulf of Georgia Culture Area. Material culture observed at the sites, projectile points, antler wedges, barbed harpoons, awls, hammers, and net weights, is consistent with Native American Coast Salish material culture. Oral history indicates that Orcas Island was occupied by the Lummi and Swallah people. The Lummi people seasonally occupied Crescent Beach and White Beach on Orcas Island for clamming until 1938 and 1942 respectively (Site Survey Form). Eastsound on Orcas Island was one of the primary areas occupied by the Swallah, who later joined the Lummi (Ruby and Brown 1986: 229; Suttles 1990:456).

In 1951, human remains representing, at minimum, eleven individuals were removed from Armadale Valley on San Juan Island in San Juan County, WA. The human remains were removed by a University of Washington field party led by Warren Caldwell. The human remains may have been transferred to the Burke Museum by the University of Washington Anthropology Department in 1991 and were accessioned by the Burke Museum in 1995 (Burke Accn. #1995-66). No known individuals were identified. No funerary objects are present. The human remains from Armadale Valley were found in cairn burials.

In 1951, human remains representing, at minimum, one individual were removed from the “International Camp” (site 45-SJ-28) at Westcott Bay on San Juan Island, in San Juan County, WA. The human remains were removed by Keith Thompson of the University of Washington while conducting a geological survey of the area and were transferred to the Burke Museum sometime prior to 1970. The human remains were found in collections at the Burke Museum in 1995 (Burke Accn. #1995-79). No known individuals were identified. The associated funerary objects are one lot of deer bones.

In 1926, human remains representing, at minimum, one individual were removed from Mitchell Bay on San Juan Island, in San Juan County, WA. The human remains were collected by J.E. Kolhs and given to A.G. Colley while on a University of Washington Museum expedition in the San Juan Islands. The human remains were transferred to the Burke Museum and accessioned in 1926 (Burke Accn. #2123). No known individuals were identified. No funerary objects are present.

The three San Juan Island sites listed above are on the northwestern portion of San Juan Island, which is considered part of the Gulf of Georgia Culture Area. The human remains from these three sites are consistent with Native American morphology as evidenced through cranial flattening. Historical and anthropological sources (Amoss 1978; Spier 1936; Suttles 1951; and Termain 1975) indicate that the northwestern portion of San Juan Island is at the intersection of the traditional territory of the Saanich, Songish, and the Lummi. Amoss stated that these sites fall within the traditional territory of the Songish. Suttles documented Saanich, Songish, and the Lummi traditional territory in the Wesctott Bay and Mitchell Bay area, while Spier indicated that the Swallah occupied the area. The Swallah later joined the Lummi (Ruby and Brown 1986: 229; Suttles 1990:456). Tremaine documents the Wesctott Bay and Mitchell Bay area as Lummi territory. Furthermore, Lummi oral tradition discusses the first man, swete'n, coming down to northern San Juan Island (Suttles 1951:33). The Songish and Saanich are Canadian First Nations groups and do not have standing under NAGPRA.

In 1961, human remains representing, at minimum, two individuals were removed from Butner Bay on Shaw Island, in San Juan County, WA. The human remains were donated to the Burke Museum in 1961 by Mrs. Ahlene Crawford, a University of Washington undergraduate student in the Anthropology Department (Burke Accn. #1963-19). No known individuals were identified. The one funerary object is a deer scapula. The human remains are consistent with Native American morphology as evidenced through intentional cranial deformation, as well as the presence of wormian bones. Shaw Island is located in the center of the San Juan Island archipelago, which is considered part of the Gulf of Georgia Culture Area.

In 1951, human remains representing, at minimum, one individual were removed from near North Bay on San Juan Island, in San Juan County, WA. The human remains were removed by Keith Thompson of the University of Washington while conducting a geological survey of the area and were transferred to the Burke Museum sometime prior to 1970. The human remains were found in collections at the Burke Museum in 1995 (Burke Accn. #1995-79). No known individuals were identified. No funerary objects are present. North Bay is on the southeastern portion of San Juan Island, which is considered part of the Gulf of Georgia Culture Area.

In 1949, human remains representing, at minimum, one individual were removed from Argyle Lagoon on San Juan Island, in San Juan County, WA. The human remains were removed by Mr. Carroll Borroughs and transferred to the Burke Museum in 1951 (Burke Accn. #3649). The human remains were found in collections at the Burke Museum in 2000. No known individuals were identified. The one funerary object is a seed. Argyle Lagoon is on the southeastern portion of San Juan Island, which is considered part of the Gulf of Georgia Culture Area.

All of the human remains in this notice have been determined to be Native American based on a variety of sources including archaeological and biological evidence. Burial of human remains in or in close proximity to a shell midden is consistent with Coast Salish Native American burial practices in the San Juan Island area.

All of the sites described in this notice are considered to be part of the Gulf of Georgia Culture Area. Linguistically Native American speakers of the Northern Straits Salish dialects claim cultural heritage to the San Juan Islands. Historical and anthropological sources (Stein 2000:6; Suttles 1990:456) indicate that the Songees, Saanich, Lummi, and Samish all had winter villages in the southern Gulf and San Juan islands. Historical and anthropological sources (Amoss 1978, Stern 1934, Suttles 1951, and Termaine 1975) state that Orcas Island, Shaw Island, and the eastern portion of San Juan Island are within the traditional territory of the Lummi. The Lummi were signatories to the Point Elliot Treaty in 1855. The Indian Claims Commission ruled that Orcas and Shaw Islands were within the aboriginal territory of the Lummi. Today, the Lummi are represented by the Lummi Tribe of the Lummi Reservation, Washington.

Determinations Made by the Burke Museum

Officials of the Burke Museum have determined that:

• Based on anthropological and biological evidence, the human remains have been determined to be Native American.

• Pursuant to 25 U.S.C. 3001(9), the human remains described above represent the physical remains of 20 individuals of Native American ancestry.

• Pursuant to 25 U.S.C. 3001(3)(A), the three objects described above are reasonably believed to have been placed with or near individual human remains at the time of death or later as part of the death rite or ceremony.

• Pursuant to 25 U.S.C. 3001(2), there is a relationship of shared group identity that can be reasonably traced between the Native American human remains and the Lummi Tribe of the Lummi Reservation, Washington.

Additional Requestors and Disposition

Representatives of any other Indian tribe that believes itself to be culturally affiliated with the human remains should contact Peter Lape, Burke Museum, University of Washington, Box 35101, Seattle, WA 98195, telephone (206) 685-3849, before October 29, 2012. Repatriation of the human remains and associated funerary objects to the Lummi Tribe of the Lummi Reservation, Washington, may proceed after that date if no additional claimants come forward.

The Burke Museum is responsible for notifying the Lummi Tribe of the Lummi Reservation, Washington; Samish Indian Tribe, Washington; and the Swinomish Indians of the Swinomish Reservation, Washington, that this notice has been published.

Dated: August 22, 2012.
Sherry Hutt,
Manager, National NAGPRA Program.

[FR Doc. 2012-23915 Filed 9-27-12; 8:45 am]

BILLING CODE 4312-50-P